DEPARTMENT OF ENERGY

Federal Energy Regulatory Commission

[Project No. 459-144]

Union Electric Company d/b/a AmerenUE; Notice Dismissing Complaint

December 20, 2005.

On December 5, 2005, Osage River Flood Control Association, Inc. filed a formal complaint against Union Electric Company, doing business as AmerenUE, licensee of the Osage Hydroelectric Project No. 459. The project is located on the Lake of the Ozarks in Missouri. The pleading generally alleges that Osage River Flood Control Association's concerns raised during the Alternative Licensing Process were ignored by AmerenUE, and requests consideration of certain issues in the relicense proceeding for the Osage Project.¹

¹ They request consideration of the following: a 30-year license term rather than the 40-year term requested by AmerenUS; earlier release of water in anticipation of rain than proposed by AmerenUE; continuation in the new license of current maximum flow levels while the project generates power rather than unlimited flow levels which may increase erosion; creation of a new flood management process; the effect of project on lower river recreation; and assistance by the licensee to downstream farmers in raising the height of the access to their islands of farm land in the lower river.

The issues raised in the pleading relate to conditions to be considered in the ongoing relicense proceeding. As such, they are not properly the subject of a formal complaint. Accordingly, the complaint is dismissed and the comments raised in the pleading will be considered in the relicense proceeding.

Magalie R. Salas,
Secretary.

[FR Doc. E5-7926 Filed 12-27-05; 8:45 am]

BILLING CODE 6717-01-P